DEPARTMENT OF COMMERCE

National Institute of Standards and Technology

Information Collection Activities; Submission to the Office of Management and Budget (OMB) for Review and Approval; Comment Request; Generic Clearance for Decision Science Data Collections

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 15, 2021, during a 60-day comment period. This notice allows for an additional 30 days for public comments.

Agency: National Institute of Standards and Technology (NIST), Commerce.

Title: Generic Clearance for Decision Science Data Collections.

OMB Control Number: 0693-XXXX.

Form Number(s): None.

Type of Request: Regular.

Number of Respondents: 30,000.

Average Hours per Response: Varied, dependent upon the data collection method used. The possible response time may be 15 minutes to complete a questionnaire or 2 hours to participate in an interview.

Burden Hours: 15,000.

Needs and Uses: The core mission of the National Institute of Standards and Technology (NIST) is to promote U.S. innovation and industrial competitiveness by advancing measurement science, standards, and technology in ways that enhance economic security and improve our quality of life. NIST's operating units across the agency increasingly recognize that the built environment is meant to serve social and economic functions. With this in mind, NIST proposes to conduct a number of data collection efforts directly related to decision-making across individuals, institutions, and communities relevant to key research areas of the agency. The use of decision and information science is critical to further the mission of NIST to promote U.S. innovation and industrial competitiveness. NIST proposes to conduct a number of data collection efforts in decision and information science to include decision analysis, risk analysis, cost-benefit and cost-effectiveness analysis, constrained optimization, simulation modeling, and application of perception, information processing, and decision models and theories; and drawing on parts of operations research, microeconomics, statistical inference, management control, cognitive and social psychology, and computer science. By focusing on decisions as the unit of analysis, decision science provides a unique framework for understanding interactions across technologies, socio-economic networks, organizations (e.g., institutions, firms), elements of the built environment, and a range of ecological problems and perceptions that influence these decisions. Data may be collected through a variety of modes, including but not limited to electronic or social media, direct or indirect observation (i.e., in-person, video, and audio collections), interviews, structured questionnaires, and focus groups.

Affected Public: Federal government; households and individuals; the private sector; and state and local governments.

Frequency: Select from the following options: once, annually, monthly, quarterly: Frequency will be variable across collections.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-13412 Filed 6-23-21; 8:45 am]

BILLING CODE 3510-13-P